DEPARTMENT OF HEALTH AND HUMAN SERVICES

Health Resources and Services Administration

Delegation of Authority

Notice is hereby given that I have delegated to the Administrator, Health Resources and Services Administration (HRSA), with authority to re-delegate, the authority vested in the Secretary of Health and Human Services under Title III, Part B, Section 319F-4, titled “Covered Countermeasure Process,” of the Public Health Service Act, as amended, by the Public Readiness and Emergency Preparedness Act of 2006 (Pub. L. 109-148), only insofar as it pertains to the compensation program.

This delegation shall be exercised under the Department's existing delegation of authority and policy on regulations.

This delegation is effective upon signature. In addition, I hereby affirmed and ratified any actions taken by the HRSA Administrator or other HRSA officials which involved the exercise of this authority prior to the effective date of this delegation.

This delegation is effective upon date of signature.

Dated: November 8, 2006.
Michael O. Leavitt,
Secretary.

[FR Doc. 06-9264 Filed 11-17-06; 8:45 am]

BILLING CODE 4165-15-M